Title 3—

The President

Proclamation 7995 of March 31, 2006

To Extend Nondiscriminatory Treatment (Normal Trade Relations Treatment) to the Products of Ukraine, and For Other Purposes

By the President of the United States of America

A Proclamation

1. Ukraine has demonstrated a strong desire to build a friendly and cooperative relationship with the United States and has been found to be in full compliance with the freedom of emigration requirements under Title IV of the Trade Act of 1974 (the “1974 Act”) (19 U.S.C. 2431 et seq.).

2. Pursuant to section 2(a) of Public Law 109-205, 120 Stat. 313 (19 U.S.C. 2434), and having due regard for the findings of the Congress in section 1(a) of said law, I hereby determine that chapter 1 of title IV of the 1974 Act (19 U.S.C. 2431-2439) should no longer apply to Ukraine.

3. Section 2103(a) of the Trade Act of 2002, 19 U.S.C. 3803(a), authorizes the President, under certain circumstances, to proclaim such modification of any existing duty as the President determines to be required or appropriate to carry out an agreement entered into in accordance with section 2103(a). The United States, a major producer and exporter of multi-chip integrated circuits, applies duties to imports of multi-chip integrated circuits of less than 5 percent ad valorem. On January 17, 2006, the United States entered into an agreement to cut to zero applied duties on certain multi-chip integrated circuits.

4. Section 604 of the 1974 Act (19 U.S.C. 2483), as amended, authorizes the President to embody in the Harmonized Tariff Schedule (HTS) of the United States the substance of relevant provisions of that Act, or other acts affecting import treatment, and of actions taken thereunder.

NOW, THEREFORE, I, GEORGE W. BUSH, President of the United States of America, acting under the authority vested in me by the Constitution and the laws of the United States of America, including but not limited to section 2(a) of Public Law 109-205, section 2103(a) of the Trade Act of 2002, and section 604 of the 1974 Act, do proclaim that:

(1) Nondiscriminatory treatment (normal trade relations treatment) shall be extended to the products of Ukraine, which shall no longer be subject to chapter 1 of title IV of the 1974 Act.

(2) The extension of nondiscriminatory treatment to the products of Ukraine shall be effective as of the date of signature of this proclamation.

(3) In order to implement the agreement on multi-chip integrated circuits, the HTS is modified to provide for application of zero duties to goods entered under tariff item 8543.89.96.

(4) The modification to the HTS made pursuant to paragraph 3 of this proclamation shall be effective with respect to goods entered, or withdrawn from warehouse for consumption, on or after April 1, 2006.

(5) All provisions of previous proclamations and Executive Orders that are inconsistent with the actions taken in this proclamation are superseded to the extent of such inconsistency.

IN WITNESS WHEREOF, I have hereunto set my hand this thirty-first day of March, in the year of our Lord two thousand six, and of the Independence of the United States of America the two hundred and thirtieth.

B

[FR Doc. 06-3298

Filed 4-3-06; 11:06 am]

Billing code 3195-01-P